NUCLEAR REGULATORY COMMISSION

[Docket Nos. 50-247 and 50-286; License Nos. DPR-26 AND DPR-64]

Entergy Nuclear Operations, Inc., Entergy Nuclear Indian Point 2, Llc, Entergy Nuclear Indian Point 3, Llc; Indian Point Nuclear Generating Unit Nos. 2 and 3; Receipt of Request for Action Under 10 CFR 2.206

Notice is hereby given that by petition dated June 25, 2007, Friends United for Sustainable Energy (FUSE, the Petitioner) has requested that pursuant to 10 CFR 2.206, the NRC take action with regard to the Indian Point Nuclear Generating Unit Nos. 2 and 3 (Indian Point). The petition requested that the NRC issue orders, effective immediately, to suspend the Indian Point licenses until such time as the issues described in the petition can be remedied to a point of full compliance with all local, State, and Federal laws.

The request is being treated pursuant to 10 CFR 2.206 of the Commission's regulations. The request has been referred to the Director of the Office of Nuclear Reactor Regulation (NRR). On September 4, 2007, the Petitioner was notified that its request for immediate action is denied. The Petitioner participated in a conference call with the NRR Petition Review Board (PRB) on December 21, 2007, to discuss the petition. The additional information provided by the Petitioner was considered by the PRB before making its final recommendation. By letter dated February 1, 2008, the Director accepted for review pursuant to 10 CFR 2.206 the Petitioner's concerns regarding the licensee's failure to implement the new emergency notification siren system in a timely manner and the underground leakage of contaminated water at the Indian Point facility. As provided by Section 2.206, appropriate action will be taken on this petition within a reasonable time.

A copy of the petition can be located at Agencywide Documents Access and Management Systems, Accession No. ML072140693, and is available for inspection at the Commission's Public Document Room, located at One White Flint North, 11555 Rockville Pike (first floor), Rockville, Maryland.

Dated at Rockville, Maryland this 1st day of February 2008.
For the Nuclear Regulatory Commission.
J. E. Dyer,
Director, Office of Nuclear Reactor Regulation.

[FR Doc. E8-2776 Filed 2-13-08; 8:45 am]

BILLING CODE 7590-01-P